SECURITIES AND EXCHANGE COMMISSION

[Release No. 34-49100; File No. SR-DTC-2003-15]

Self-Regulatory Organizations; the Depository Trust Company; Notice of Filing and Immediate Effectiveness of a Proposed Rule Change Relating To Revisions to the Fee Schedule

January 20, 2004.

Pursuant to section 19(b)(1) of the Securities Exchange Act of 1934 (“Act”),¹ notice is hereby given that on December 29, 2003, The Depository Trust Company (“DTC”) filed with the Securities and Exchange Commission (“Commission”) the proposed rule change as described in items I, II, and III below, which items have been prepared primarily by DTC. The Commission is publishing this notice to solicit comments on the proposed rule change from interested persons.

¹ 15 U.S.C. 78s(b)(1).

I. Self-Regulatory Organization's Statement of the Terms of Substance of the Proposed Rule Change

The proposed rule change consists of revisions to DTC's fee schedule for services.²

² A copy of DTC's 2004 service fee revisions is attached as Exhibit 1.

II. Self-Regulatory Organization's Statement of the Purpose of, and Statutory Basis for, the Proposed Rule Change

In its filing with the Commission, DTC included statements concerning the purpose of and basis for the proposed rule change and discussed any comments it received on the proposed rule change. The text of these statements may be examined at the places specified in item IV below. DTC has prepared summaries, set forth in sections (A), (B), and (C) below, of the most significant aspects of such statements.³

³ The Commission has modified parts of these statements.

(A) Self-Regulatory Organization's Statement of the Purpose of, and Statutory Basis for, the Proposed Rule Change

The purpose of the proposed rule change is to adjust the fees DTC charges for various services so that the fees are aligned with DTC's estimated service costs for 2004, effective with respect to services provided on and after January 1, 2004.

DTC believes that the proposed rule change is consistent with the requirements of section 17A of the Act and the rules and regulations thereunder applicable to DTC because fees will be more equitably allocated among users of DTC services.

(B) Self-Regulatory Organization's Statement on Burden on Competition

DTC perceives no impact on competition by reason of the proposed rule change.

(C) Self-Regulatory Organization's Statement on Comments on the Proposed Rule Change Received From Members, Participants, or Others

Written comments from DTC participants or others have not been solicited or received on the proposed rule change.

III. Date of Effectiveness of the Proposed Rule Change and Timing for Commission Action

Because the foregoing rule change establishes or changes fees to be imposed by DTC, it has become effective pursuant to section 19(b)(3)(A)(ii) of the Act ⁴ and Rule 19b-4(f)(2).⁵ At any time within 60 days of the filing of the proposed rule change, the Commission may summarily abrogate such rule change if it appears to the Commission that such action is necessary or appropriate in the public interest, for the protection of investors, or otherwise in furtherance of the purposes of the Act.

⁴ 15 U.S.C. 78s(b)(3)(A)(ii).

⁵ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Comments may also be submitted electronically at the following e-mail address: rule-comments@sec.gov. All comment letters should refer to File No. SR-DTC-2003-15. This file number should be included on the subject line if e-mail is used. To help the Commission process and review your comments more efficiently, comments should be sent in hardcopy or by e-mail but not by both methods. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW., Washington, DC 20549. Copies of such filing also will be available for inspection and copying at the principal office of DTC and DTC's Web site at www.dtc.org/impNtc/mor/index.html. All submissions should refer to File No. SR-DTC-2003-15 and should be submitted by February 17, 2004.

For the Commission by the Division of Market Regulation, pursuant to delegated authority.⁶
⁶ 17 CFR 200.30-3(a)(12).
Jill M. Peterson,
Assistant Secretary.

Exhibit 1.—2004 DTC Service Fee Revisions
Service | Current fee | Proposed fee
ASSET Servicing
Dividends
P&I:
Floating Payable Date Securities (ARPs, ARNs) | $1.31 | $2.40
VRDO | 2.40 | 2.90
DIVANN—Annual Fee | 1,800.00 | 9,000.00
Reorg New Fees:
Proxy Record Date Meetings | 0.00 | (¹)
Dissent Letters/Shareholder Demands | 0.00 | (²)
Reorg Modified Fees:
Full Prerefundings | 0.00 | 7.00
Voluntary Exchange/Tender | 35.00 | (³)
Voluntary Dividend Reinvest Program | 11.29 | 14.00
Remarketing Agent Fee | 0.00 | 17.50
CRS Service Election | 25.00 | 35.00
Custody Fee:
COD/Pickup—Next Day
COD/Pickup— Next Day | 16.91 | 30.00
COD/Ship | 18.80 | 24.00
COD/Redeposit | 15.35 | 24.00
Trailing Docs. | 3.48 | 4.50
Certificate Copies—PINS | 8.00 | 15.00
W/T's | 25.69 | 30.00
Rush W/T's | 46.69 | 65.00
COD/Partial | 12.83 | 24.00
Reorg Rejects | 37.93 | 50.00
Cancel Processing | 12.67 | 16.00
Account No. Change | 4.37 | 5.00
Non Securitized Rec. | 3.09 | 4.50
Coupon Clipping | 7.31 | 9.00
Custom/Mail Letter | 4.72 | 5.50
COD/Pickup—Same Day | 16.91 | 30.00
Non-Transferables (Long Position) Surcharge—Greater Than 6 Years | 0.17 | 1.00
Deposits:
DWAC | 1.00 | 1.50
Rejects | 41.00 | 50.00
Deposit Mail Charge | 1.05 | 1.50
Research of CUSIP for Name Change | 4.85 | 15.00
WTs:
WT DMD | 5.40 | 9.50
WT Delivery to the Participant | 7.90 | 9.50
DWAC | 1.00 | 1.50
WT DMD Mail Cost | 2.50 | 3.00
WT Hold and Bust Feature | 0.60 | 1.00
Rush WT Transfer | 49.69 | 65.00
WT Mail Issue Surcharge for TA Outside of NYC | 1.05 | 1.50
Rejects | 41.00 | 50.00
WT DMA (Cert or DRS) | 4.60 | 5.00
CODs:
Critical COD (Cede and Co.) | 46.69 | 75.00
DRS:
DRS Certificate Surcharge (Cert. Disincentive) | 1.00 | 5.00
DRS LPA Account Charge per Month | 225.00 | 275.00
DRS LPA Application Fee | 0.00 | 250.00
Securities Processing Research Fee | 0.00 | 55.00
SETTLEMENT
Deliveries:
MMI Transactions | 0.56 | 0.70
Day (Zone B) Receiving | 0.26 | 0.27
Day (Zone B) Deliveries | 0.44 | 0.45
Payment Orders | 0.10 | 0.11
Memo Segregation | 0.10 | 0.09
Institutional Deliveries | 0.17 | 0.16
CNS Deliveries | 0.17 | 0.16
New Issues:
Basic BEO Eligibility | 250.00 | 275.00
CD BEO Eligibility | 90.00 | 125.00
Non-Receipt of Final Offering Docs | 0.00 | 300.00
Multi Certificated | 675.00 | 1,000.00
MMI Swings | 0.00 | 250.00
Single Certificated | 585.00 | 750.00
WUN Incentive Rebate | (⁴) |
INTERNATIONAL TAX SERVICES
Foreign Tax Service (EDS) | 27.00 | (⁵)
DTax—PTS Inquiries | 5.00 | 15.00
DTax—Web | 1,500.00 | 5,000.00
DTax—CCF File | 1,500.00 | 7,500.00
U.S. Tax Withholding—Minimum Annual Fee | N/A | 5,000.00
U.S. Tax Withholding—Tax Adjustments | 1.50 | 1.80
TRAINING
E-Learning Courses (Per Course) | 0.00 | 75.00
Instructor Led Course (Customer Site) | (⁶) | (⁷)
Instructor Led Course (Internet) | 0.00 | (⁸)
E-Learning Certification Exam | 0.00 | 400.00
¹ $0.50 per participant record date position.
² $400 per dissent letter/shareholder demand processed.
³ $35 per Letter of Transmittal, $20 offer service fee per position holder, and a voluntary offering instruction fee of $20 for the first 50 instructions, and $0.70 for each instruction over 50.
⁴ A rebate of $52 for single CUSIP issues, and $107 for multi-CUSIP issues, will be applied if the issue is submitted via WUM.
⁵ One half of one percent (.5%) of the tax relief secured by the participant. A minimum fee of $30 and a maximum fee of $500 per transaction will apply.
⁶ Current fee is $1000 per day per customer visit.
⁷ $750 per student with a two student minimum.
⁸ $250 per student with a two student minimum.

[FR Doc. 04-1604 Filed 1-26-04; 8:45 am]

BILLING CODE 8010-01-P